CONSUMER PRODUCT SAFETY COMMISSION

Submission for OMB Review; Comment Request—Follow-Up Activities for Product-Related Injuries

AGENCY: Consumer Product Safety Commission.

ACTION: Notice.

SUMMARY: On August 4, 2006, the Consumer Product Safety Commission (CPSC or Commission) published a notice in accordance with provisions of the Paperwork Reduction Act of 1995 (44 U.S.C. Chapter 35) (PRA), to announce the agency's intention to seek approval for a collection of information obtained from persons who have been involved in or have witnessed incidents associated with consumer products. 71 FR 44262. The Commission announces that it has submitted to the Office of Management and Budget (OMB) a request for an extension of the existing approval of collections of information conducted during follow-up activities for product-related injuries.

The Commission received two comments. One commentor requests that the Commission post reports of problems found with products and act on the information obtained. This comment does not weigh against extension of the current authorization. Another commentor, the Association of Trial Lawyers of America (ATLA), supports the proposed extension and requests the Commission staff to continue to use personal interviews as well as technological data collection to obtain pertinent information regarding product-related incidents. ATLA also requests that the Commission staff investigate a wider variety of product-related incidents. Given the large number of incidents reported involving consumer products annually, including NEISS data on hospital emergency room treated injuries, over 350,000 records per year, the Commission's resources and strategic goals guide the number of follow-up investigations that are conducted annually. Although Commission staff does not conduct follow-up investigations in every instance, staff does conduct an estimated 807 face-to-face interviews, excluding investigations conducted by the Office of Compliance and Field Operations, 2,544 in-depth investigations by phone, 4,600 hotline staff interviews, and conducts a review of 6,900 internet forms received from persons requesting information about product-related incidents or injuries.

ATLA also requests that incident reports that contain identifying information be made available, in unredacted form, to counsel for both plaintiffs and defendants. The statutes administered by the Commission explicitly preclude the release of the type of identifying information sought to be obtained by ATLA. Section 6 of the CPSA, 15 U.S.C. 2055, provides that the Commission may not disclose any information which will permit the public to ascertain the identity of a manufacturer without providing prior notification and opportunity for comment to the manufacturer to which such information pertains. In addition, section 25 of the CPSA, 15 U.S.C. 2074, provides that any accident or investigation report made by an officer or employee of the Commission shall be made available to the public in a manner which will not identify any injured person or any person treating him, without the consent of the person so identified. Records that could reasonably be expected to constitute an unwarranted invasion of personal privacy are also exempted from production and disclosure under the Freedom of Information Act, 5 U.S.C. 552(b). To the extent an injured person has consented to release such information, that information would be readily available to counsel for either the plaintiff or the defendant.

The information collected from persons who have sustained injuries or who have witnessed safety-related incidents associated with consumer products is an important source of safety information. The information collected is vital to the Commission in its efforts to assess the safety of consumer products and identify areas regarding consumer safety issues that may require further development and improvement through voluntary standards activities, rulemaking proceedings, recall activities, and information and education campaigns. Accordingly, the Commission has submitted the request for an extension of the existing approval of collections of information conducted during follow-up activities for product-related injuries.

Additional Details About the Request for Approval of a Collection of Information

Agency address: Consumer Product Safety Commission, 4330 East West Highway, Bethesda, MD 20814.

Title of information collection: Follow-Up Activities for Product-Related Injuries.

Type of request: Extension of approval.

Frequency of collection: One time for each respondent.

General description of respondents: Persons who have been involved in, have witnessed, or otherwise have knowledge of incidents associated with consumer products.

Estimated number of respondents: 14,851 total annually; 807 for face-to-face interviews; 2,544 telephone interviews; 4,600 hotline interviews; and 6,900 persons submitting a form.

Estimated annual average number of hours per respondent: 20 min. for each telephone interview; 5.0 hours for each on-site interview; 12 min. to fill out a form; 10 min. for each Hotline interview.

Estimated total annual number of hours for all respondents: 7,030.

Estimated cost of collection for all respondents: $202,000.

Comments

Comments on this request for approval of information collection requirements should be submitted by December 8, 2006 to (1) the Office of Information and Regulatory Affairs, Attn: OMB Desk Officer for CPSC, Office of Management and Budget, Washington DC 20503; telephone: (202) 395-7340, and (2) the Office of the Secretary by e-mail at cpsc-os@cpsc.gov, or mailed to the Office of the Secretary, Consumer Product Safety Commission, 4330 East West Highway, Bethesda, MD 20814. Comments may also be sent via facsimile at (301) 504-0127.

Copies of this request for approval of information collection requirements and supporting documentation are available from Linda Glatz, Management and Program Analyst, Office of Planning and Evaluation, Consumer Product Safety Commission, 4330 East West Highway, Bethesda, MD 20814; telephone: (301) 504-7671; e-mail lglatz@cpsc.gov.

Dated: November 2, 2006.
Alberta E. Mills,
Acting Secretary, Consumer Product Safety Commission.

[FR Doc. E6-18858 Filed 11-7-06; 8:45 am]

BILLING CODE 6355-01-P